DEPARTMENT OF THE INTERIOR

Bureau of Land Management

[LLCAD00000 L19900000.AL0000

Notice of Call for Nominations for the Bureau of Land Management's California Desert District Advisory Council

AGENCY: Bureau of Land Management, Interior.

ACTION: Notice of call for nominations.

SUMMARY: The Bureau of Land Management's (BLM) California Desert District is soliciting nominations from the public for six members of its California Desert District Advisory Council (Council) to serve a three-year term. Council members provide advice and recommendations to the BLM on the management of public lands in southern California.

ADDRESSES: Nominations should be sent to Teresa Raml, District Manager, Bureau of Land Management, California Desert District Office, 22835 Calle San Juan De Los Lagos, Moreno Valley, California 92553.

FOR FURTHER INFORMATION CONTACT: David Briery, BLM California Desert District External Affairs (951) 697-5220.

SUPPLEMENTARY INFORMATION: The Council is comprised of 15 private individuals who represent different interests and advise BLM officials on policies and programs concerning the management of 11 million acres of BLM-administered public land in southern California's Desert District. The Council meets in formal session three to four times each year in various locations throughout the California Desert District. Council members serve without compensation. Members serve three-year terms and may be nominated for reappointment for an additional three-year term. The terms of six Council members have recently expired. The purpose of this notice is to seek nominations for individuals to fill those positions.

Section 309 of the Federal Land Policy and Management Act (FLPMA) directs the Secretary of the Interior (Secretary) to involve the public in planning and issues related to the management of BLM-administered lands. The Secretary selects Council nominees consistent with the requirements of FLPMA and the Federal Advisory Committee Act (FACA), which require nominees appointed to the Council be balanced in terms of points of view and representative of the various interests concerned with the management of the public lands within the area for which the Council is established.

The Council also is balanced geographically, and the BLM will try to find qualified representatives from areas throughout the California Desert District. The District covers portions of eight counties, and includes more than 11 million acres of public land in the California Desert Conservation Area and 300,000 acres of scattered parcels in San Diego, western Riverside, western San Bernardino, Orange, and Los Angeles Counties (known as the South Coast).

Public notice begins with the publication date of this notice and nominations will be accepted until May 9, 2011. The three-year term would begin immediately upon confirmation by the Secretary.

The six positions to be filled include one representative of recreation groups or organizations, one representative of non-renewable groups or organizations, one representative of wildlife groups or organizations, and three representatives of the public-at-large (including one elected official).

Any group or individual may nominate a qualified person, based upon education, training, and knowledge of the BLM, the California Desert, and the issues involving BLM-administered public lands throughout southern California. Qualified individuals also may nominate themselves.

The nomination form may be found on the Desert Advisory Council webpage: http://www.blm.gov/ca/st/en/info/rac/dac.html. The following must accompany the nomination form for all nominations:

Letters of reference from represented interests, or organizations, or elected officials;

A completed background information nomination form to include the nominee's work and home addresses and telephone numbers, a biographical sketch including the nominee's work, applicable outside interests, and public service records; and

Any other information that addresses the nominee's qualifications.

Nominees unable to download the nomination form may contact the BLM California Desert District External Affairs staff at (951) 697-5220 to request a copy.

Advisory Council members are appointed by the Secretary, and will be evaluated based on their education, training, and knowledge of the BLM, the California Desert District, and the issues involving BLM-administered public lands.

The Obama Administration prohibits individuals who are currently federally registered lobbyists to serve on any FACA and non-FACA boards, committees, or councils.

Teresa A. Raml,
California Desert District Manager.

[FR Doc. 2011-6994 Filed 3-24-11; 8:45 am]

BILLING CODE 4310-40-P